NATIONAL SCIENCE FOUNDATION

Sunshine Act Meeting

The National Science Board's Awards and Facilities Committee (A&F) hereby gives notice of the scheduling of a videoconference for the transaction of National Science Board business pursuant to the National Science Foundation Act and the Government in the Sunshine Act.

TIME AND DATE: Friday, February 10, 2023, from 1:00-3:00 p.m. EST.

PLACE: This meeting will be held by videoconference through NSF headquarters, 2145 Eisenhower Ave., Alexandria, VA 22314.

STATUS: Closed.

MATTERS TO BE CONSIDERED: The agenda of the teleconference is: Committee Chair's Opening Remarks; Information Item: Update on Implementation of Astronomy Decadal Survey recommendations; Context Item: National Center for Atmospheric Research Operations and Management Award renewal; Context Item: Ocean Observatories Initiative Operations and Management Award renewal; and Context Item: National Ecological Observatory Network Recompeted Operations and Management Award.

CONTACT PERSON FOR MORE INFORMATION: Point of contact for this meeting is: Michelle McCrackin, mmccrack@nsf.gov, (703) 292-7000. Meeting information and updates may be found at www.nsf.gov/nsb.

Christopher Blair,
Executive Assistant to the National Science Board Office.

[FR Doc. 2023-02567 Filed 2-2-23; 4:15 pm]

BILLING CODE 7555-01-P